DEPARTMENT OF EDUCATION

Intent To Compromise Claim Against the State of Michigan State Department of Corrections

AGENCY: Department of Education.

ACTION: Notice of intent to compromise a claim with request for comments.

SUMMARY: The U.S. Department of Education (Department) intends to compromise a claim against the Michigan State Department of Corrections (MDC) now pending before the Office of Administrative Law Judges (OALJ), Docket No. 05-37-R. Before compromising the claim, the Department must publish its intent to do so in the Federal Register and provide the public an opportunity to comment on that action (20 U.S.C. 1234a(j)).

DATES: We must receive your comments on the proposed action on or before September 25, 2006.

ADDRESSES: Address all comments concerning the proposed action to John R. Mason, Esq., Office of the General Counsel, U.S. Department of Education, 400 Maryland Avenue, SW., room 6E112, Washington, DC 20202-2110.

FOR FURTHER INFORMATION CONTACT: John R. Mason, Esq. Telephone (202) 401-6057. If you use a telecommunications device for the deaf (TDD), you may call the Federal Relay Service (FRS) at 1-800-877-8339.

Individuals with disabilities may obtain this document in alternative format (e.g., Braille, large print, audio tape, or computer diskette) on request to the contact person listed under FOR FURTHER INFORMATION CONTACT.

SUPPLEMENTARY INFORMATION:

Invitation To Comment

We invite you to submit comments regarding this proposed action. During and after the comment period, you may inspect all public comments in room 6E112, FB-6, 400 Maryland Avenue, SW., Washington, DC between the hours of 8:30 a.m. and 4 p.m. Eastern time, Monday through Friday of each week except Federal holidays.

Assistance to Individuals With Disabilities in Reviewing Comments

On request, we will supply an appropriate aid, such as a reader or print magnifier, to an individual with a disability who needs assistance to review the comments. If you want to schedule an appointment for this type of aid, please contact the person listed under FOR FURTHER INFORMATION CONTACT.

Background

The claim in question arose when the Department's Assistant Deputy Secretary for Safe and Drug-Free Schools issued a program determination letter (PDL) on April 29, 2005. The PDL demanded a refund of $114,923 of funds awarded to the MDC by the Department under the Youth Offenders program for fiscal years 2001 through 2003. This program, authorized by 20 U.S.C. 1151, provides State grants for workplace and community transition training for incarcerated youth offenders. The Assistant Deputy Secretary determined that a total of $114,923 had been misspent for inappropriate space rental charges, excess costs for materials and textbooks, and payments for classes not begun by certain prisoners.

MDC filed a timely request for review of the PDL with the OALJ. The Administrative Law Judge suspended proceedings so that the parties could discuss settlement. During settlement discussions, the MDC provided the Assistant Deputy Secretary additional documentation and materials for review. After consideration of those materials, the Department proposes to compromise the claim of $114,923 for $78,965, nearly sixty-nine percent of the amount the Assistant Deputy Secretary disallowed in the PDL.

Based on the amount that would be repaid by MDC, the additional materials and documentation submitted by MDC while this appeal has been pending before the OALJ, and litigation risks and costs of proceeding through the administrative, and possibly, court process for this appeal, the Department has determined that it would not be practical or in the public interest to continue this proceeding. Rather, under the authority in 20 U.S.C. 1234a(j), the Department has determined that compromise of this claim for a refund of $78,965 is appropriate. The public is invited to comment on the Department's intent to compromise this claim. Additional information may be obtained by calling or writing to John R. Mason, Esq. at the telephone number listed under FOR FURTHER INFORMATION CONTACT or the address listed under ADDRESSES.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: www.gpoaccess.gov/nara/index.html.

Program Authority: 20 U.S.C. 1234a(j).

Dated: August 9, 2006.
Lawrence A. Warder,
Chief Financial Officer.

[FR Doc. 06-6887 Filed 8-10-06; 8:45 am]

BILLING CODE 4000-01-P